DEPARTMENT OF LABOR

Employment and Training Administration

[TA-W-59,006]

Spherion Leased Workers Working On-Site at JDS Uniphase Corporation, Rochester, MN; Notice of Termination of Investigation

Pursuant to section 221 of the Trade Act of 1974, as amended, an investigation was initiated on March 13, 2006 in response to a petition filed by a state workforce agent on behalf of leased Spherion workers working on-site at JDS Uniphase Corporation; Rochester, Minnesota.

The petitioning group of workers is covered by an active certification, TA-W-55,262 (amended March 21, 2006), which expires on August 16, 2006. Consequently, further investigation in this case would serve no purpose, and the investigation has been terminated.

Signed at Washington, DC, this 21st day of March, 2006.
Richard Church,
Certifying Officer, Division of Trade Adjustment Assistance.

[FR Doc. E6-4607 Filed 3-28-06; 8:45 am]

BILLING CODE 4510-30-P